ENVIRONMENTAL PROTECTION AGENCY

40 CFR Parts 52 and 70

[EPA-R07-OAR-2020-0059; FRL-10005-47-Region 7]

Air Plan Approval; Iowa; State Implementation Plan and Operating Permits Program

AGENCY: Environmental Protection Agency (EPA).

ACTION: Proposed rule.

SUMMARY: The Environmental Protection Agency (EPA) is proposing to approve revisions to the Iowa State Implementation Plan (SIP) and the Operating Permits Program. The revisions include updating definitions, regulatory references, correcting the State's mailing address, requiring facilities to submit electronic emissions inventory information under the State's title V permitting program, and updating references for the most recent federally approved minimum specifications and quality assurance procedures for performance evaluations of continuous monitoring systems. These revisions will not impact air quality and will ensure consistency between the State and Federally approved rules.

DATES: Comments must be received on or before March 25, 2020.

ADDRESSES: You may send comments, identified by Docket ID No. EPA-R07-OAR-2020-0059 to https://www.regulations.gov. Follow the online instructions for submitting comments.

Instructions: All submissions received must include the Docket ID No. for this rulemaking. Comments received will be posted without change to https://www.regulations.gov/, including any personal information provided. For detailed instructions on sending comments and additional information on the rulemaking process, see the “Written Comments” heading of the SUPPLEMENTARY INFORMATION section of this document.

FOR FURTHER INFORMATION CONTACT: Stephanie Doolan, Environmental Protection Agency, Region 7 Office, Air Quality Planning Branch, 11201 Renner Boulevard, Lenexa, Kansas 66219; telephone number (913) 551-7719; email address doolan.stephanie@epa.gov.

SUPPLEMENTARY INFORMATION: Throughout this document “we,” “us,” and “our” refer to EPA. This section provides additional information by addressing the following:

I. What is being addressed in this document?

II. What SIP revisions are being proposed by the EPA?

III. What operating permit plan revisions are being proposed by the EPA?

IV. Have the requirements for approval of a SIP and the operating permits program revisions been met?

V. What actions are proposed?

VI. Incorporation by Reference

VII. Statutory and Executive Order Reviews

I. What is being addressed in this document?

The EPA is proposing to approve a submission from the State of Iowa to revise its SIP and the Operating Permits Program. On April 18, 2019, the Iowa Department of Natural Resources (IDNR) submitted a request to revise the SIP to incorporate recent changes to Iowa Administrative Code. The following three chapters are impacted. Chapter 20, “Scope of Title—Definitions;” Chapter 22, “Controlling Pollution;” and Chapter 25, “Measurement of Emissions”.

The revisions include updates to the definition of “EPA Reference Method” and the corresponding procedures for Federal updates to methods and procedures for continuous monitoring systems, correct the mailing address for IDNR's Air Quality Bureau, add a regulatory cross-reference, and require facilities to submit electronic emissions inventory information under the state's title V permitting program. The specific changes and EPA analysis are discussed in more detail below.

Sections 111 and 112 of the Clean Air Act (CAA) allow the EPA to delegate authority to states for New Source Performance Standards (NSPS), National Emission Standards for Hazardous Air Pollutants (NESHAPs), and emission guidelines. The EPA has delegated authority to Iowa for approved portions of these sections of the CAA. Changes made to Iowa's Chapter 23 pertaining to new and revised NSPS, NESHAPs, and emission guidelines are not directly approved into the SIP, but rather, are adopted by reference. Thus, the EPA is not proposing to approve these changes to Iowa Administrative Code into the State's SIP.

II. What SIP revisions are being proposed by the EPA?

The EPA is proposing the following revisions to the Iowa SIP: Chapter 20, Scope of Title-Definitions: The State revised the definition of “EPA reference method” to adopt methods for continuous monitoring approved by EPA on August 7, 2017. The update will ensure that state reference methods are equivalent to Federal reference methods; thus, EPA proposes to approve this change.

Chapter 22, subrule 22.1(1), Permit Required: In subrule 22.1(1)c.(1), Eligibility, the State has added a reference to rule 567-31.3(455B). The addition of rule 567-31.3(455B)is a cross-reference to the rules for nonattainment areas specified in Chapter 31. Since there is no impact on air quality or the stringency of the SIP as a result of this change, EPA proposes to approve it.

Chapter 22, subrule 22.1(3), Construction Permits, subrule 22.3(8), Ownership change of permitted equipment, subrule 22.9(3), Duty to self-identify, subrule 22.300(8), Registration and reporting, and subrule 22.300(12), Change of ownership, have been revised to correct the address for the IDNR's Air Quality Bureau. EPA proposes to approve these changes.

Chapter 25, Measurement of Emissions: The State revised subrule 25.1(9),”Methods and Procedures,” to adopt the minimum performance specificatons and quality assurance procedures for performance evaluations of continuous monitoring systems specified by the EPA in 40 CFR part 60, appendix B amended through August 7, 2017. The proposed update will ensure that State reference methods are equivalent to Federal reference methods and are no more stringent than Federal methods; thus, EPA proposes to approve this change.

III. What operating permit plan revisions are being proposed by the EPA?

The EPA is proposing to approve the following revisions to Iowa's Operating Permits Program (title V) as follows:

Chapter 22, subrule 22.100 (455B): As discussed above, the definition of “EPA reference method” has similarly been revised in definitions for the operating permits program to adopt the minimum performance specificatons and quality assurance procedures for performance evaluations of continuous monitoring systems specified by the EPA in 40 CFR part 60, appendix B amended through August 7, 2017. Referencing the updated method will ensure that state methods are equivalent to Federal reference methods; thus, EPA proposes to approve this change.

Chapter 22, subrule 22.105(1), Duty to apply, subrule 22.128(4), Submission of copies, subrule 22.300(8), Registration and reporting; and subrule 22.300(12), Change of ownership, have been revised to correct the address for the IDNR's Air Quality Bureau. The EPA proposes to approve these changes.

As stated in 74 FR 68692 (December 29, 2009), the EPA is not acting on Iowa Administrative Code 567-22.105(1) that allows facility owners or operators to submit an electronic title V operating permit application until the State obtains approval from the EPA that its electronic document receiving system is consistent with the Cross-Media Electronic Reporting Rule, 40 CFR part 3. In addition, subrule 22.105(1) “a” subparagraph (9) is not approved.

Chapter 22, subrule 22.106(2), Emissions inventory and documentation due dates: This subrule has been changed to require facilities to electronically report annual emissions inventories under Iowa's approved title V permitting program. This change is expected to simplify the emissions inventory reporting progress. The EPA approved Iowa's State and Local Emissions Inventory System (SLEIS) pursuant to the Cross-Media Electronic Reporting Rule, 40 CFR part 3, on December 9, 2015. 80 FR 76474. The IDNR offers both in-person and on-line training to support the change from paper to electronic reporting in SLEIS. Since there is no impact to air quality and this change is consistent with federal requirements for reporting, the EPA proposes to approve this change.

IV. Have the requirements for approval of a SIP and the operating permits program revisions been met?

The submission met the public notice requirements for SIP submissions in accordance with 40 CFR 51.102. The State held a public comment period from December 19, 2018 to January 22, 2019, with a public hearing on January 22, 2019. One comment was received, but it was outside the scope of this rulemaking. The submission satisfies the completeness criteria of 40 CFR part 51, appendix V. In addition, these revisions meet the substantive SIP requirements of the CAA, including section 110 and implementing regulations. Finally, the revisions are also consistent with applicable EPA requirements of title V of the CAA and 40 CFR part 70.

V. What actions are proposed?

The EPA is proposing to approve revisions to the Iowa SIP and the Operating Permits Program. The proposed revisions update the definition of “EPA Reference Method” and the corresponding procedures for Federal updates to methods and procedures for continuous monitoring systems, correct the mailing address for IDNR's Air Quality Bureau, add a regulatory cross-reference, and require facilities to submit electronic emissions inventory information under the State's title V permitting program. The EPA has determined that approval of these revisions will not impact air quality and will ensure consistency between the state and federally-approved rules, and ensure Federal enforceability of the State's revised air program rules.

VI. Incorporation by Reference

In this document, the EPA is proposing to include regulatory text in an EPA final rule that includes incorporation by reference. In accordance with requirements of 1 CFR 51.5, the EPA is proposing to incorporate by reference the Iowa Regulations described in the proposed amendments to 40 CFR part 52 set forth below. The EPA has made, and will continue to make, these materials generally available through www.regulations.gov and at the EPA Region 7 Office (please contact the person identified in the FOR FURTHER INFORMATION CONTACT section of this preamble for more information).

VII. Statutory and Executive Order Reviews

Under the CAA, the Administrator is required to approve a SIP submission that complies with the provisions of the Act and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866.

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects

40 CFR Part 52

Environmental protection, Air pollution control, Incorporation by reference, Intergovernmental relations, Particulate matter, Reporting and recordkeeping requirements, Volatile organic compounds.

40 CFR Part 70

Environmental protection, Administrative practice and procedure, Air pollution control, Intergovernmental relations, Operating permits, Reporting and recordkeeping requirements.

Dated: February 13, 2020.
James Gulliford,
Regional Administrator, Region 7.

For the reasons stated in the preamble, EPA proposes to amend 40 CFR parts 52 and 70 as set forth below:

PART 52—APPROVAL AND PROMULGATION OF IMPLEMENTATION PLANS

1. The authority citation for part 52 continues to read as follows:

Authority: 42 U.S.C. 7401 et seq.

Subpart Q—Iowa

2. In § 52.820, the table in paragraph (c) is amended by revising the entries “567-20.2”, “567-22.1”, “567-22.9”, “567-22.300” and “567-25.1” to read as follows:

§ 52.820 Identification of plan.

* * * * *

(c) * * *

EPA-Approved Iowa Regulations
Iowa citation | Title | State effective date | EPA approval date | Explanation
Iowa Department of Natural Resources Environmental Protection Commission [567]
Chapter 20—Scope of Title—Definitions
* * * * * * *
567-20.2 | Definitions | 4/17/2019 | [Date of publication of the final rule in the Federal Register], [Federal Register citation of the final rule] | The definitions for “anaerobic lagoon,” “odor,” “odorous substance,” “odorous substance source” are not SIP approved.
* * * * * * *
Chapter 22—Controlling Pollution
567-22.1 | Permits Required for New or Stationary Sources | 4/17/2019 | [Date of publication of the final rule in the Federal Register], [Federal Register citation of the final rule] | In 22.1(3) the following sentence regarding electronic submission is not SIP approved. The sentence is: “Alternatively, the owner or operator may apply for a construction permit for a new or modified stationary source through the electronic submittal format specified by the department.”
* * * * * * *
567-22.9 | Special Requirements for Visibility Protection | 4/17/2019 | [Date of publication of the final rule in the Federal Register], [Federal Register citation of the final rule] |
* * * * * * *
567-22.300 | Operating Permit by Rule for Small Sources | 4/17/2019 | [Date of publication of the final rule in the Federal Register], [Federal Register citation of the final rule] |
* * * * * * *
Chapter 25—Measurement of Emissions
567-25.1 | Testing and Sampling of New and Existing Equipment | 4/17/2019 | [Date of publication of the final rule in the Federal Register], [Federal Register citation of the final rule] |
* * * * * * *

* * * * *

PART 70—STATE OPERATING PERMIT PROGRAMS

3. The authority citation for part 70 continues to read as follows:

Authority: 42 U.S.C. 7401, et seq.

4. Appendix A to part 70 is amended by adding paragraph (u) under “Iowa” to read as follows:

Appendix A to Part 70—Approval Status of State and Local Operating Permits Programs

* * * * *

Iowa

* * * * *

(u) The Iowa Department of Natural Resources submitted for program approval revisions to rules 567-22.100, 567-22.105(1), 567-22.106(2), 567-22.128(4), 567-22.300(8), and 567-22.300(12). The state effective date is April 17, 2019. The proposed revision effective date is [date of Regional Administrator signature of the final rule in the Federal Register].

* * * * *

[FR Doc. 2020-03513 Filed 2-21-20; 8:45 am]

BILLING CODE 6560-50-P